FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4284F

Name: Cargo, Inc.

Address: 220 Thorndale Avenue, Bensenville, IL 60106

Date Revoked: August 28, 2002

Reason: Failed to maintain a valid bond.

License Number: 1425F

Name: Dart Transit Company

Address: c/o Scott Buchanan, 800 Lone Oak Road, Eagan, MN 55121

Date Revoked: September 4, 2002.

Reason: Failed to maintain a valid bond.

License Number: 1341F

Name: Gatell International, Inc.

Address: 7952 NW 14th Street, Miami, FL 33126

Date Revoked: August 23, 2002.

Reason: Failed to maintain a valid bond.

License Number: 517F

Name: General Shipping Co. Inc.

Address: 473 Broadway, Bayonne, NJ 07002

Date Revoked: August 10, 2002.

Reason: Failed to maintain a valid bond.

License Number: 197F

Name: Import Export Service of NJ, Inc.

Address: 972 Broad Street, Newark, NJ 07102

Date Revoked: August 31, 2002.

Reason: Failed to maintain a valid bond.

License Number: 3779F

Name: L & E International Services, Inc.

Address: 380 West 78th Road, Hialeah, FL 33014

Date Revoked: August 21, 2002.

Reason: Failed to maintain a valid bond.

License Number: 2662NF

Name: La Flor De Mayo Express, Inc.

Address: 311 Bruckner Boulevard, Suite B, Bronx, NY 10454

Date Revoked: July 24, 2002.

Reason: Failed to maintain valid bonds.

License Number: 829F

Name: Leyden Shipping Corporation

Address: 30 Vesey Street, Suite 1000, New York, NY 10007

Date Revoked: September 14, 2002.

Reason: Failed to maintain a valid bond.

License Number: 17088NF

Name: Marist International Group Incorporated dba MIG Cargo Services and Galleon Express Lines

Address: 1212 5th Avenue, Suite K, Monrovia, CA 91016

Date Revoked: July 20, 2002.

Reason: Failed to maintain valid bonds.

License Number: 17384NF

Name: Northern Business Logistics Corporation

Address: 398 West Bagley Road, Suite 216, Berea, OH 44017

Date Revoked: July 18, 2002.

Reason: Failed to maintain valid bonds.

License Number: 3171F

Name: RSB Logistic Services Inc.

Address: 219 Cardinal Crescent, Saskatoon, Canada S7L-7K8

Date Revoked: August 22, 2002.

Reason: Failed to maintain a valid bond.

License Number: 4197F

Name: S.AC. International Forwarding, Inc. dba S.A.C. International Consolidators

Address: 8442 NW 70th Street, Miami, FL 33166

Date Revoked: June 12, 2002.

Reason: Failed to maintain a valid bond.

License Number: 2911F

Name: Yowell International Airlines Inc. dba Yowell International

Address: One Air Cargo Place #3, Melborne, FL 32901

Date Revoked: July 25, 2002.

Reason: Failed to maintain a valid bond.

Sandra L. Kusumoto,
Director, Bureau of Consumer Complaints and Licensing.

[FR Doc. 02-24350 Filed 9-24-02; 8:45 am]

BILLING CODE 6730-01-P